DEPARTMENT OF AGRICULTURE

Animal and Plant Health Inspection Service

[Docket No. APHIS-2013-0100]

International Sanitary and Phytosanitary Standard-Setting Activities

AGENCY: Animal and Plant Health Inspection Service, USDA.

ACTION: Notice and request for comments.

SUMMARY: In accordance with legislation implementing the results of the Uruguay Round of negotiations under the General Agreement on Tariffs and Trade, we are informing the public of the international standard-setting activities of the World Organization for Animal Health, the Secretariat of the International Plant Protection Convention, and the North American Plant Protection Organization, and we are soliciting public comment on the standards to be considered.

ADDRESSES: You may submit comments by either of the following methods:

• Federal eRulemaking Portal: Go to http://www.regulations.gov/#!documentDetail;D=APHIS-2012-0082-0001.

• Postal Mail/Commercial Delivery: Send your comment to Docket No. APHIS-2012-0082, Regulatory Analysis and Development, PPD, APHIS, Station 3A-03.8, 4700 River Road Unit 118, Riverdale, MD 20737-1238.

Supporting documents and any comments we receive on this docket may be viewed at http://www.regulations.gov/#!docketDetail;D=APHIS-2012-0082 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: For general information on the topics covered in this notice, contact Mrs. Jessica Mahalingappa, Acting Associate Deputy Administrator for SPS Management, International Services, APHIS, room 1132, USDA South Building, 14th Street and Independence Avenue SW., Washington, DC 20250; (202) 799-7121.

For specific information regarding standard-setting activities of the World Organization for Animal Health, contact Dr. Michael David, Director, International Animal Health Standards Team, National Center for Import/Export, VS, APHIS, 4700 River Road Unit 33, Riverdale, MD 20737-1231; (301) 851-3302.

For specific information regarding the standard-setting activities of the International Plant Protection Convention, contact Ms. Julie E. Aliaga, Program Director, International Phytosanitary Standards, PPQ, APHIS, 4700 River Road Unit 140, Riverdale, MD 20737-1236; (301) 851-2032.

For specific information on the North American Plant Protection Organization, contact Dr. Christina Devorshak, PPQ Technical Director for NAPPO, PPQ, APHIS, 1730 Varsity Drive, Suite 300, Raleigh, NC 27606; (919) 855-7547.

SUPPLEMENTARY INFORMATION:

Background

The World Trade Organization (WTO) was established as the common international institutional framework for governing trade relations among its members in matters related to the Uruguay Round Agreements. The WTO is the successor organization to the General Agreement on Tariffs and Trade. U.S. membership in the WTO was approved by Congress when it enacted the Uruguay Round Agreements Act (Pub. L. 103-465), which was signed into law on December 8, 1994. The WTO Agreements, which established the WTO, entered into force with respect to the United States on January 1, 1995. The Uruguay Round Agreements Act amended Title IV of the Trade Agreements Act of 1979 (19 U.S.C. 2531 et seq.). Section 491 of the Trade Agreements Act of 1979, as amended (19 U.S.C. 2578), requires the President to designate an agency to be responsible for informing the public of the sanitary and phytosanitary (SPS) standard-setting activities of each international standard-setting organization. The designated agency must inform the public by publishing an annual notice in the Federal Register that provides the following information: (1) The SPS standards under consideration or planned for consideration by the international standard-setting organization; and (2) for each SPS standard specified, a description of the consideration or planned consideration of that standard, a statement of whether the United States is participating or plans to participate in the consideration of that standard, the agenda for U.S. participation, if any, and the agency responsible for representing the United States with respect to that standard.

“International standard” is defined in 19 U.S.C. 2578b as any standard, guideline, or recommendation: (1) Adopted by the Codex Alimentarius Commission (Codex) regarding food safety; (2) developed under the auspices of the World Organization for Animal Health (OIE, formerly known as the Office International des Epizooties) regarding animal health and welfare, and zoonoses; (3) developed under the auspices of the Secretariat of the International Plant Protection Convention (IPPC) in cooperation with the North American Plant Protection Organization (NAPPO) regarding plant health; or (4) established by or developed under any other international organization agreed to by the member countries of the North American Free Trade Agreement (NAFTA) or the member countries of the WTO.

The President, pursuant to Proclamation No. 6780 of March 23, 1995 (60 FR 15845), designated the Secretary of Agriculture as the official responsible for informing the public of the SPS standard-setting activities of Codex, OIE, IPPC, and NAPPO. The United States Department of Agriculture's (USDA's) Food Safety and Inspection Service (FSIS) informs the public of Codex standard-setting activities, and USDA's Animal and Plant Health Inspection Service (APHIS) informs the public of OIE, IPPC, and NAPPO standard-setting activities.

FSIS publishes an annual notice in the Federal Register to inform the public of SPS standard-setting activities for Codex. Codex was created in 1962 by two United Nations organizations, the Food and Agriculture Organization (FAO) and the World Health Organization. It is the major international organization for encouraging international trade in food and protecting the health and economic interests of consumers.

APHIS is responsible for publishing an annual notice of OIE, IPPC, and NAPPO activities related to international standards for plant and animal health and representing the United States with respect to these standards. Following are descriptions of the OIE, IPPC, and NAPPO organizations and the standard-setting agenda for each of these organizations. We have described the agenda that each of these organizations will address at their annual general sessions, including standards that may be presented for adoption or consideration, as well as other initiatives that may be underway at the OIE, IPPC, and NAPPO.

The agendas for these meetings are subject to change, and the draft standards identified in this notice may not be sufficiently developed and ready for adoption as indicated. Also, while it is the intent of the United States to support adoption of international standards and to participate actively and fully in their development, it should be recognized that the U.S. position on a specific draft standard will depend on the acceptability of the final draft. Given the dynamic and interactive nature of the standard-setting process, we encourage any persons who are interested in the most current details about a specific draft standard or the U.S. position on a particular standard-setting issue, or in providing comments on a specific standard that may be under development, to contact APHIS. Contact information is provided at the beginning of this notice under FOR FURTHER INFORMATION CONTACT.

OIE Standard-Setting Activities

The OIE was established in Paris, France, in 1924 with the signing of an international agreement by 28 countries. It is currently composed of 178 Members, each of which is represented by a delegate who, in most cases, is the chief veterinary officer of that country or territory. The WTO has recognized the OIE as the international forum for setting animal health and welfare standards, reporting global animal disease events, and presenting guidelines and recommendations on sanitary measures relating to animal health.

The OIE facilitates intergovernmental cooperation to prevent the spread of contagious diseases in animals by sharing scientific research among its Members. The major functions of the OIE are to collect and disseminate information on the distribution and occurrence of animal diseases and to ensure that science-based standards govern international trade in animals and animal products. The OIE aims to achieve these through the development and revision of international standards for diagnostic tests, vaccines, and the safe international trade of animals and animal products.

The OIE provides annual reports on the global distribution of animal diseases, recognizes the free status of Members for certain diseases, categorizes animal diseases with respect to their international significance, publishes bulletins on global disease status, and provides animal disease control guidelines to Members. Various OIE commissions and working groups undertake the development and preparation of draft standards, which are then circulated to Members for consultation (review and comment). Draft standards are revised accordingly and are then presented to the OIE World Assembly of Delegates (all the Members) during the General Session, which meets annually every May, for review and adoption. Adoption, as a general rule, is based on consensus of the OIE membership.

The next OIE General Session is scheduled for May 25-30, 2014, in Paris, France. Currently, the Deputy Administrator for APHIS' Veterinary Services program is the official U.S. Delegate to the OIE. The Deputy Administrator for APHIS' Veterinary Services program intends to participate in the proceedings and will discuss or comment on APHIS' position on any standard up for adoption. Information about OIE draft Terrestrial and Aquatic Animal Health Code chapters may be found on the Internet at http://www.aphis.usda.gov/import_export/animals/oie/ or by contacting Dr. Michael David (see FOR FURTHER INFORMATION CONTACT above).

OIE Terrestrial and Aquatic Animal Health Code Chapters and Appendices Adopted During the May 2013 General Session

Over 30 Code chapters were amended, rewritten, or newly proposed and presented for adoption at the General Session. The following Code chapters are of particular interest to the United States:

1. Glossary

Updates the definition of veterinarian in the chapter.

2. Chapter 1.1, Notification of Diseases and Epidemiological Information

Text changes update some of the terminology in this chapter.

3. Chapter 3.2, Evaluation of Veterinary Services

Text in this chapter was modified for clarity.

4. Chapter 3.4, Veterinary Legislation

This Code chapter was adopted in 2012, but in 2013 it received minor modifications to clarify some of the text.

5. Chapter 4.6, Collection and Processing of Bovine, Small Ruminant, and Porcine Semen

This Code chapter was slightly updated to clarify some points.

6. Chapter 4.7, Collection and Processing in vivo Derived Embryos from Livestock and Equids

This Code chapter also received some minor updates for clarity.

7. Chapter 6.9. Responsible and Prudent Use of Antimicrobial Agents in Veterinary Medicine

This Code chapter provides new text for additional clarification of the responsibilities of the Competent Authority to oversee the use of antimicrobial agents.

8. Chapter 8.13, Infection with Trichinella spp.

This Code chapter was completely rewritten and its recommendations are meant to complement the Codex Alimentarius chapter on Trichinella.

9. Chapter 10.4 Infection with Avian Influenza (AI) Viruses

The terminology of “avian influenza” was changed by removing the term “notifiable” and replacing it with “avian influenza” or “highly pathogenic AI,” depending on the context of the chapter.

10. Chapter 12. 9. Infection with Equine Viral Arteritis (EVA)

The text in this chapter was expanded to include embryo transfer as a vehicle of virus transmission from an EVA carrier stallion to a recipient mare.

11. Chapter 14.8 Infection with Peste des Petits Ruminants Virus (PPR)

An updated chapter was adopted with the inclusion of specific requirements for the trade of meat and meat products as safe commodities regardless of the country PPR status.

12. Chapter 7.9, Animal Welfare and Beef Cattle Production Systems

Text in the chapter was amended to include the avoidance of dragging of non-ambulatory cattle, the reduction of stocking density as a measure of managing heat stress, and conditions for tethering were modified to improve clarity.

13. Chapter 7.10, Animal Welfare and Broiler Chicken Production Systems

Throughout the chapter, the Code Commission accepted Member Country suggestions to improve clarity and to consistently use the terms completely outdoors systems, humanely killed, day-old bird(s), and broilers.

The following Aquatic Code chapters are of particular interest to the United States:

1. Chapter 1.3, Diseases Listed by the OIE

Listing of infection with ostreid herpesvirus-1 microvariant, as an emerging molluskan disease.

OIE Terrestrial Animal Health Code Chapters and Appendices for Future Review

Existing Terrestrial Animal Health Code chapters that may be further revised and new chapters that may be drafted in preparation for the next General Session in 2014 include the following:

• Chapter 6.10, Risk Assessment for Antimicrobial Resistance Arising from the Use of Antimicrobial Agents in Animals.

• Chapter 12.1, Infection with African Horse Sickness Virus.

• Chapter 11.8, Infection with Mycoplasma mycoides subsp. Mycoides (Contagious bovine pleuropneumonia).

• Chapter 1.6, Procedures for self-declaration and for official recognition by the OIE (Chapter 11.8).

• Draft Chapter 4.X., The High Health Status horse subpopulation.

• Chapter 1.4., Animal health surveillance.

• Chapter 8.X., Infection with Brucella abortus, B. melitensis and B. suis.

• Chapter 15.2, Classical swine fever.

• Chapter 7.X Animal Welfare and Dairy Cattle Production Systems.

IPPC Standard-Setting Activities

The IPPC is a multilateral convention adopted in 1952 for the purpose of securing common and effective action to prevent the spread and introduction of pests of plants and plant products and to promote appropriate measures for their control. Under the IPPC, the understanding of plant protection has been, and continues to be, broad, encompassing the protection of both cultivated and noncultivated plants from direct or indirect injury by plant pests. Activities addressed by the IPPC include the development and establishment of international plant health standards (ISPMs), the harmonization of phytosanitary activities through emerging standards, the facilitation of the exchange of official and scientific information among countries, and the furnishing of technical assistance to developing countries that are signatories to the IPPC.

The IPPC is under the authority of the Food and Agriculture Organization (FAO), and the members of the Secretariat of the IPPC are appointed by the FAO. The IPPC is implemented by national plant protection organizations (NPPOs) in cooperation with regional plant protection organizations (RPPOs), the Commission on Phytosanitary Measures (CPMand the Secretariat of the IPPC. The United States plays a major role in all standard-setting activities under the IPPC and has representation on FAO's highest governing body, the FAO Conference.

The United States became a contracting party to the IPPC in 1972 and has been actively involved in furthering the work of the IPPC ever since. The IPPC was amended in 1979, and the amended version entered into force in 1991 after two-thirds of the contracting countries accepted the amendment. More recently, in 1997, contracting parties completed negotiations on further amendments that were approved by the FAO Conference and submitted to the parties for acceptance. This 1997 amendment updated phytosanitary concepts and formalized the standard-setting structure within the IPPC. The 1997 amended version of the IPPC entered into force after two-thirds of the contracting parties notified the Director General of FAO of their acceptance of the amendment in October 2005. The U.S. Senate gave its advice and consent to acceptance of the newly revised IPPC on October 18, 2000. The President submitted the official letter of acceptance to the FAO Director General on October 4, 2001.

The IPPC has been, and continues to be, administered at the national level by plant quarantine officials whose primary objective is to safeguard plant resources from injurious pests. In the United States, the national plant protection organization is APHIS' Plant Protection and Quarantine (PPQ) program.

Every 2 years, NPPOs and RPPOs propose topics for ISPMs, which are then prioritized and approved by the CPM. All contracting parties agree to the scope of the draft ISPM and then NPPOs and RPPOs nominate experts to draft the ISPM. The draft ISPM then enters the member consultation stage, in which countries submit comments. The comments are incorporated and the draft ISPM is presented for the final member consultation stage, and is then adopted by the CPM. On average, this process takes 5 to 7 years. More detailed information on the standard setting process can be found on the IPPC Web site.¹

¹ IPPC Standard Setting procedure: https://www.ippc.int/core-activities/standards-setting.

Each member country is represented on the CPM by a single delegate. Although experts and advisors may accompany the delegate to meetings of the CPM, only the delegate (or an authorized alternate) may represent each member country in considering a standard proposed for approval. Parties involved in a vote by the CPM are to make every effort to reach agreement on all matters by consensus. Only after all efforts to reach a consensus have been exhausted may a decision on a standard be passed by a vote of two-thirds of delegates present and voting.

Technical experts from the United States have participated directly in working groups and indirectly as reviewers of all IPPC draft standards. The United States also has a representative on the Standards Committee, Capacity Development Committee, and the CPM Bureau. In addition, documents and positions developed by APHIS and NAPPO have been sources of significant input for many of the standards adopted to date. This notice describes each of the IPPC standards currently under consideration or up for adoption. Interested individuals may review the standards ² and submit comments to Julie.E.Aliaga@aphis.usda.gov.

² Draft ISPMs submitted for member consultation: https://www.ippc.int/core-activities/standards-setting/member-consultation-draft-ispms.

Draft ISPMs submitted for substantial concerns commenting period: https://www.ippc.int/core-activities/standards-setting/substantial-concerns-commenting-period-sccp-draft-ispms.

Draft ISPMs submitted for adoption: https://www.ippc.int/core-activities/standards-setting/formal-objections-draft-ispms-14-days-prior-cpm.

The Ninth Session of the CPM is scheduled for March 31 to April 4, 2014, at FAO Headquarters in Rome, Italy. The Deputy Administrator for APHIS' PPQ program is the U.S. delegate to the CPM. The Deputy Administrator intends to participate in the proceedings and will discuss or comment on APHIS' position on any standards up for adoption.

It is expected that the following standards will be sufficiently developed to be considered by the CPM for adoption at its 2014 meeting. The United States, represented by the Deputy Administrator for APHIS' PPQ program, will participate in consideration of these standards. The U.S. position on each of these issues will be developed prior to the CPM session and will be based on APHIS' analysis, information from other U.S. Government agencies, and relevant scientific information from interested stakeholders.

• Appendix to ISPM 12: Electronic certification, information on standard XML schemas and exchange mechanisms.

• Annex to ISPM 26: Establishment of fruit fly quarantine areas within a pest free area in the event of an outbreak.

• New ISPM: Determination of host status of fruits and vegetables to fruit fly (Tephritidae) infestation.

• Annexes to ISPM 28: Phytosanitary treatments.

○ Cold treatment for Ceratitis capitata on Citrus sinensis.

○ Cold treatment for Ceratitis capitata on Citrus reticulata × C. sinensis.

○ Cold treatment for Ceratitis capitata on Citrus limon.

○ Cold treatment for Bactrocera tryoni on Citrus limon.

○ Cold treatment for Bactrocera tryoni on Citrus sinensis.

○ Cold treatment for Bactrocera tryoni on Citrus reticulata × C. sinensis.

○ Cold treatment for Ceratitis capitata on Citrus paradisi.

○ Vapor heat treatment for Bactrocera cucurbitae on Cucumis melo var. Reticulatus.

○ Irradiation for Dysmicoccus neobrevipes Beardsley, Planococcus lilacinus (Cockerell), and Planococcus minor (Maskell) (Hemiptera: Pseudococcidae).

• Annexes to ISPM 27: Diagnostic Protocols.

○ Phyllosticta citricarpa on fruit.

○ Tilletia indica.

New Standard-Setting Initiatives, Including Those in Development

A number of expert working group (EWG) meetings or other technical consultations will take place during 2014 on the topics listed below. These standard-setting initiatives are under development and may be considered for future adoption. APHIS intends to participate actively and fully in each of these working groups. The U.S. position on each of the topics to be addressed by these various working groups will be developed prior to these working group meetings and will be based on APHIS' technical analysis, information from other U.S. Government agencies, and relevant scientific information from interested stakeholders.

• EWG on international movement of cut flowers and branches.

• Technical Panel on phytosanitary treatments.

• Technical Panel on the Glossary.

• Technical Panel on forest quarantine.

• Technical Panel on diagnostic protocols.

• The specification for the international movement of grain will be available for country consultation.

For more detailed information on the above, contact Ms. Julie E. Aliaga (see FOR FURTHER INFORMATION CONTACT above).

APHIS posts links to draft standards on the Internet as they become available and provides information on the due dates for comments.³ Additional information on IPPC standards (including the standard setting process and adopted standards) is available on the IPPC Web site.⁴ For the most current information on official U.S. participation in IPPC activities, including U.S. positions on standards being considered, contact Ms. Julie E. Aliaga (see FOR FURTHER INFORMATION CONTACT above). Those wishing to provide comments on any of the areas of work being undertaken by the IPPC may do so at any time by responding to this notice (see ADDRESSES above) or by providing comments through Ms. Aliaga.

³ For more information on the IPPC draft ISPM member consultation: http://www.aphis.usda.gov/plant_health/international/PhytosanitaryStandards/draft_standards.shtml.

⁴ IPPC Web site: https://www.ippc.int/.

NAPPO Standard-Setting Activities

NAPPO, a regional plant protection organization created in 1976 under the IPPC, coordinates the efforts among Canada, the United States, and Mexico to protect their plant resources from the entry, establishment, and spread of harmful plant pests, while facilitating intra- and inter-regional trade. NAPPO conducts its business through commodity based panels, expert groups, and annual meetings held among the three member countries. The NAPPO Executive Committee charges individual panels or expert groups with the responsibility for drawing up proposals for NAPPO positions, policies, and standards. Panels and expert groups are made up of representatives from each member country who have scientific expertise related to the policy or standard being considered, as well as representatives from key industries or commodity groups (e.g., nursery, seed, forestry, grains, potato, citrus, etc.). Proposals drawn up by the individual panels are circulated for review to Government and industry officials in Canada, the United States, and Mexico, who may suggest revisions. In the United States, draft standards are circulated to industry, States, and various government agencies for consideration and comment. The draft standards are posted on the Internet at http://www.nappo.org/en/. Once revisions are made, the proposal is sent to the NAPPO Working Group and the NAPPO Standards Panel for technical reviews, and then to the Executive Committee for final approval, which is granted by consensus.

The annual NAPPO meeting was held October 29 to 31, 2013, in Guelph, Ontario, Canada. The NAPPO Executive Committee meeting took place on October 28, 2013. The Deputy Administrator for PPQ, or his designee (in this case, the Assistant Deputy Administrator for Field Operations), is a member of the NAPPO Executive Committee. The Assistant Deputy Administrator for Field Operations participated in the proceedings to discuss or comment on APHIS' position on standards proposed for adoption or any proposals to develop new standards.

Below is a summary of the current NAPPO work program as it relates to the ongoing development of NAPPO standards. The United States (i.e., USDA/APHIS) intends to participate actively and fully in the NAPPO work program. The U.S. position on each topic will be guided and informed by the best scientific information available on each of these topics. For each of the following topics, the United States will consider its position on any draft standard after it reviews a prepared draft. Information regarding the following NAPPO panel topics, assignments, activities, and updates on meeting times and locations may be obtained from the NAPPO homepage at http://www.nappo.org or by contacting Dr. Christina Devorshak (see FOR FURTHER INFORMATION CONTACT above).

The current work program includes the following topics.

1. Authorization—The Authorization panel will finalize RSPM 28, “Guidelines for Authorization of Entities to Perform Phytosanitary Services,” based on comments received through country consultation.

2. Citrus—The Citrus commodity panel will finalize a document on recommended measures for the establishment and maintenance of area wide management programs for Huanglongbing and its vector. The panel will also develop a document for identification of new and emerging citrus quarantine pests and methods for their identification and management (no meeting/work electronically only).

3. Forestry—The Forestry commodity panel will organize a workshop (regional or international) on implementation of ISPM 15, Regulation of wood packaging material in international trade. It will also review and incorporate comments made to the Science and Technology document on heat treatment of wood products. The panel is also developing a specification for a possible standard on the potential use of systems approaches to manage pest risks associated with the movement of wood. Lastly the panel is completing development of a Science and Technology document on biological control of emerald ash borer (EAB).

4. Pest risk analysis—An expert group will be appointed to develop a NAPPO Science and Technology paper on the risks associated with Lymantriids of potential concern to the NAPPO region, identifying potential species and pathways of concern. A specification for a regional standard on diversion from intended use is also being prepared.

5. Fruit—The Fruit panel will finalize the Annex to RSPM 17 on guidelines for development of, and efficacy verification for, lures and traps for arthropod pests of fruits: format as Appendix, submit for country consultation and finalize.

6. Grain—The Grain panel will develop a discussion paper related to the issue of phytosanitary certification of grain re-export and in-transit movement within North America and for re-export of grain to off-continent destinations.

7. Host status—An expert group will be established to develop a standard on “Criteria for the determination of host status of pest arthropods and pathogens based on available information” according to the approved specifications.

8. Oversight—The Oversight panel will finalize RSPM 41, Guidelines for oversight programs, based on comments received through country consultation, due to begin in November 2013.

9. Pest Risk Management—A draft regional standard for pest risk management (RSPM 40, Pest Risk Management), is under final revision based on comments received through country consultation.

10. Phytosanitary Alert System—The Phytosanitary Alert System (PAS) manages the NAPPO pest reporting system and work towards eliminating any duplication in reporting to the IPPC.

11. Plants for Planting—An expert group will be appointed to revise RSPM 18 (2004), Guidelines for phytosanitary action following detection of plum pox virus.

12. Potato—The Potato panel will revise Annex 6 of RSPM 3 (2011), Guidelines for movement of potatoes into a NAPPO member country based on the PVY TAG Science and Technology document finalized in 2013; they will also revise the pest list for RSPM 3. They will review the existing RSPM 3 (2011), Guidelines for movement of potatoes into a NAPPO member country to align it with ISPM 33 (2010), Pest free potato (Solanum sp.) micropropagative material and minitubers for international trade and discuss any adjustments required by NAPPO member countries.

13. Seed—The Seed panel will continue the development of technical information for the RSPM 36 (2013), Phytosanitary guidelines for the movement of seed into a NAPPO member country, including the preparation of a process for petitioning NAPPO to officially add technical information to RSPM 36 and the development of annexes and appendices for five additional seed commodities: Tomato, pepper, spinach, lettuce, and watermelon. They will also prepare a comprehensive analysis and evaluation of overall phytosanitary risk of seed that is moved internationally, and prospects for harmonization of seed phytosanitary approaches among the NAPPO member countries, as a NAPPO discussion document.

14. Electronic Phytosanitary Certification (E-phyto) Panel—The panel conducted a regional workshop on E-phyto in Costa Rica for Latin American countries in 2013. Ongoing E-phyto work is primarily conducted through the IPPC; however, the NAPPO Annual Symposium conducted in conjunction with the Annual Meeting in 2014 will be focused on further development of E-phyto internationally.

The PPQ Assistant Deputy Administrator, as the official U.S. delegate to NAPPO, intends to participate in the adoption of these regional plant health standards, including the work described above, once they are completed and ready for such consideration.

The information in this notice contains all the information available to us on NAPPO standards currently under development or consideration. For updates on meeting times and for information on the working panels that may become available following publication of this notice, go to the NAPPO Web site on the Internet at http://www.nappo.org or contact Dr. Christina Devorshak (see FOR FURTHER INFORMATION CONTACT above). Information on official U.S. participation in NAPPO activities, including U.S. positions on standards being considered, may also be obtained from Dr. Devorshak. Those wishing to provide comments on any of the topics being addressed in the NAPPO work program may do so at any time by responding to this notice (see ADDRESSES above) or by transmitting comments through Dr. Devorshak.

Done in Washington, DC, this 29th day of January 2014.
Kevin Shea,
Administrator, Animal and Plant Health Inspection Service.

[FR Doc. 2014-02274 Filed 2-3-14; 8:45 am]

BILLING CODE 3410-34-P